DEPARTMENT OF TRANSPORTATION

Office of the Secretary

Reports, Forms and Recordkeeping Requirements; Agency Information Collection Activity Under OMB Review

AGENCY: Office of the Secretary, DOT.

ACTION: Notice.

SUMMARY: In compliance with the Paperwork Reduction Act of 1995 (44 U.S.C. 3501 et seq.), this notice announces that the Information Collection Request (ICR) abstracted below has been forwarded to the Office of Management and Budget (OMB) for renewal and comment. The ICR describes the nature of the information collection and its expected cost and burden. The Federal Register Notice with a 60-day comment period soliciting comments on the following collection of information was published on May 15, 2000 [FR 65, 31049]. No comments were received.

DATES: Comments must be submitted on or before November 20, 2000.

FOR FURTHER INFORMATION CONTACT: Delores King, Air Carrier Fitness Division, X-56, Office of Aviation Analysis; Office of the Secretary; US Department of Transportation, 400 7th Street, SW., Washington, DC 20590-0002. Telephone (202) 366-2343.

SUPPLEMENTARY INFORMATION:

Office of the Secretary (OST)

Title: Procedures and Evidence Rules for Air Carrier Authority Applications:

14 CFR part 201—Air Carrier Authority under Subtitle VII of title 49 of the United States Code—(Amended);

14 CFR part 204—Data to Support Fitness Determinations;

14 CFR part 291—Cargo Operations in Interstate Air Transportation.

OMB Control Number: 2106-0023.

Affected Public: Persons seeking initial or continuing authority to engage in air transportation must provide information to the Department concerning their ownership, citizenship, financial condition and compliance history. This specific information to be filed is set forth in 14 CFR parts 201 and 204.

Annual Estimated Burden: 4900 hours*

Comments are invited on: (a) Whether the proposed collection of information is necessary for the proper performance of the functions of the Department, including whether the information will have practical utility; (b) the accuracy of the Department's estimate of the burden of the proposed information collection; (c) ways to enhance the quality, utility, and clarity of the information collected; and (d) ways to minimize the burden of the collection of information on respondents, including the use of automated collection techniques or other forms of information technology.

Issued in Washington, DC on October 16, 2000.
Michael Robinson,
Information Resource Management, United States Department of Transportation.

[FR Doc. 00-26956 Filed 10-19-00; 8:45 am]

BILLING CODE 4910-62-P